DEPARTMENT OF ENERGY

Federal Energy Regulatory Commission

[Docket Nos. RP00-495-007, RP01-97-006, and RP03-211-003]

Texas Gas Transmission, LLC; Notice Of Compliance Filing

November 14, 2003.

Take notice that on November 6, 2003, Texas Gas Transmission LLC (Texas Gas) tendered for filing as part of its FERC Gas Tariff, Second Revised Volume No. 1, the tariff sheets listed on Appendix A to the filing, with the effective date as indicated on the Appendix.

Texas Gas states that this filing complies with “Order on Rehearing, Clarification, and Compliance Filing” (105 FERC ¶ 61,042) issued by the Commission on October 7, 2003. Texas Gas further states that the Commission's acceptance of all the revised tariff provisions previously submitted in its Order Nos. 637, 587-G and 587-L filings was subject to Texas Gas re-filing them for incorporation into its recently approved FERC Gas Tariff, Second Revised Volume No. 1 (Texas Gas Transmission, LLC, June 10, 2003, Docket No. RP03-521).

Texas Gas states that copies of the tariff sheets are being mailed to all parties on the official service lists in these dockets, to Texas Gas's official service list, to Texas Gas's jurisdictional customers, and to interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00346 Filed 11-20-03; 8:45 am]

BILLING CODE 6717-01-P